DEPARTMENT OF THE INTERIOR

Bureau of Indian Affairs

[167 A2100DD/AAKC001030/A0A501010.999900]

Renewal of Agency Information Collection for Bureau of Indian Education Tribal Colleges and Universities; Application for Grants and Annual Report Form; Correction

AGENCY: Bureau of Indian Affairs, Interior.

ACTION: Notice; correction.

SUMMARY: The Bureau of Indian Affairs published a document in the Federal Register of November 25, 2015, concerning request for comments on the Renewal of Agency Information Collection for Bureau of Indian Education Tribal Colleges and Universities; Application for Grants and Annual Report Form, OMB Control Numbers 1076-0018 and 1076-0105. The document contained an incorrect email address for the submission of comments.

FOR FURTHER INFORMATION CONTACT: Elizabeth K. Appel, Director, Office of Regulatory Affairs & Collaborative Action, (202) 273-4680; elizabeth.appel@bia.gov.

Correction

In the Federal Register of November 25, 2015, in FR Doc. 2015-29954 on page 73811, in the second column, correct the ADDRESSES caption to read:

ADDRESSES: You may submit comments on the information collection to the Desk Officer for the Department of the Interior at the Office of Management and Budget, by facsimile to (202) 395-5806 or you may send an email to: OIRA_Submission@omb.eop.gov. Please send a copy of your comments to Juanita Mendoza, Acting Chief of Staff, Bureau of Indian Education, 1849 C Street NW., MIB—Mail Stop 4657, Washington, DC 20240; email Juanita.Mendoza@bie.edu.

Elizabeth K. Appel,
Director, Office of Regulatory Affairs and Collaborative Action—Indian Affairs.

[FR Doc. 2015-30581 Filed 12-2-15; 8:45 am]

BILLING CODE 4337-15-P